DEPARTMENT OF VETERANS AFFAIRS

Loan Guaranty: Assistance to Eligible Individuals in Acquiring Specially Adapted Housing; Cost-of-Construction Index

AGENCY: Department of Veterans Affairs.

ACTION: Notice.

SUMMARY: The Department of Veterans Affairs (VA) announces that the aggregate amounts of assistance available under the Specially Adapted Housing (SAH) grant program will increase by 5.63 percent for Fiscal Year (FY) 2019.

DATES: The increases in aggregate amounts are effective on October 1, 2018.

FOR FURTHER INFORMATION CONTACT: Gregory Nelms, Assistant Director for Loan Policy and Valuation, Loan Guaranty Service (26), Veterans Benefits Administration, Department of Veterans Affairs, 810 Vermont Avenue NW, Washington, DC 20420, (202) 632-8978. (This is not a toll-free number.)

SUPPLEMENTARY INFORMATION: In accordance with 38 United States Code (U.S.C.) 2102(e), 38 U.S.C. 2102A(b)(2), 38 U.S.C. 2102B(b)(2), and 38 Code of Federal Regulations (CFR) 36.4411, the Secretary of Veterans Affairs announces for FY 2019 the aggregate amounts of assistance available to veterans and servicemembers eligible for SAH program grants.

Section 2102(e)(2) authorizes the Secretary to increase the aggregate amounts of SAH assistance annually based on a residential home cost-of-construction index. Per 38 CFR 36.4411(a), the Secretary uses the Turner Building Cost Index for this purpose.

In the most recent quarter for which the Turner Building Cost Index is available, 2nd Quarter 2018, the index showed an increase of 5.63 percent over the index value listed by 2nd Quarter 2017. Turner Construction Company, Cost Index, http://www.turnerconstruction.com/cost-index (last visited October 2, 2018). Pursuant to 38 CFR 36.4411(a), therefore, the aggregate amounts of assistance for SAH grants made pursuant to 38 U.S.C. 2101(a) and 2101(b) will increase by 5.63 percent for FY 2019.

Sections 2102A(b)(2) and 2102B(b)(2) require the Secretary to apply the same percentage calculated pursuant to section 2102(e) to grants authorized pursuant to sections 2102A and 2102B. As such, the maximum amount of assistance available under these grants will also increase by 5.63 percent for FY 2019.

The increases are effective as of October 1, 2018. 38 U.S.C. 2102(e), 2102A(b)(2), and 38 U.S.C. 2102B(b)(2).

Specially Adapted Housing: Aggregate Amounts of Assistance Available During Fiscal Year 2019

Section 2101(a) Grants and Temporary Residence Adaptation (TRA) Grants

Effective October 1, 2018, the aggregate amount of assistance available for SAH grants made pursuant to 38 U.S.C. 2101(a) will be $85,645 during FY 2019. The maximum TRA grant made to an individual who satisfies the eligibility criteria under 38 U.S.C. 2101(a) and 2102A will be $37,597 during FY 2019.

Section 2101(b) Grants and TRA Grants

Effective as of October 1, 2018, the aggregate amount of assistance available for SAH grants made pursuant to 38 U.S.C. 2101(b) will be $17,130 during FY 2019. The maximum TRA grant made to an individual who satisfies the eligibility criteria under 38 U.S.C. 2101(b) and 2102A will be $6,713 during FY 2019.

Section 2102B Grants

Effective as of October 1, 2018, the amount of assistance available for SAH grants made pursuant to 38 U.S.C. 2102B will be $85,645 during FY 2019; however, the Secretary may waive this limitation for a veteran if the Secretary determines a waiver is necessary for the rehabilitation program of the veteran.

Signing Authority

The Secretary of Veterans Affairs, or designee, approved this document and authorized the undersigned to sign and submit the document to the Office of the Federal Register for publication electronically as an official document of the Department of Veterans Affairs. The Secretary of Veterans Affairs, Department of Veterans Affairs, approved this document on December 4, 2018 for publication.

Dated: December 4, 2018.
Luvenia Potts,
Program Specialist, Office of Regulation Policy & Management, Office of the Secretary, Department of Veterans Affairs.

[FR Doc. 2018-27025 Filed 12-12-18; 8:45 am]

BILLING CODE 8320-01-P